DEPARTMENT OF AGRICULTURE

Commodity Credit Corporation

Notice of Funds Availability (NOFA); Market Facilitation Program (MFP) Payments to Producers

AGENCY: Commodity Credit Corporation and Farm Service Agency, USDA.

ACTION: Notice.

SUMMARY: MFP provides payments to producers with commodities that have been significantly impacted by actions of foreign governments resulting in the loss of traditional exports. This NOFA announces the availability of MFP funds for eligible producers of the following commodities for 2018: Soybeans, sorghum, wheat, extra long staple (ELS) cotton, upland cotton, corn, hogs, and milk. On behalf of the Commodity Credit Corporation (CCC), the Farm Service Agency (FSA) will administer MFP. MFP participants will receive an MFP payment, calculated based on the eligible production multiplied by the participant's share multiplied by the MFP payment rate.

DATES:

Application period: September 4, 2018, through January 15, 2019.

Comment Dates: We will consider comments on the Paperwork Reduction Act that we receive by: October 29, 2018.

FOR FURTHER INFORMATION CONTACT: Bradley Karmen, Acting Deputy Administrator for Farm Programs, telephone: (202) 720-3175.

SUPPLEMENTARY INFORMATION:

Background

CCC published 7 CFR part 1409 in the Rules and Regulations section of this issue of the Federal Register specifying the eligibility requirements, payment calculations, and application procedures for MFP. MFP provides assistance to producers with commodities that have been significantly impacted by actions of foreign governments resulting in the loss of traditional exports. This NOFA announces the availability of initial MFP payments for 2018 for soybeans, sorghum, wheat, ELS cotton, upland cotton, corn, hogs, and milk.

Application Process

Each eligible producer applies for MFP on an application form. A producer applies for MFP once. Payments will not be issued until a producer certifies production, as described below.

Payment Rates

The MFP payment rates will be as determined by CCC.

The MFP payment rates and units of measure that will be in effect beginning September 4, 2018, are listed in the following table.

Commodity | Unit | Rate ($/unit)
Soybeans | bushels | $1.65
Sorghum | bushels | 0.86
Wheat | bushels | 0.14
Cotton (Upland and ELS) | pounds | 0.06
Corn | bushels | 0.01
Hogs | head | 8.00
Milk | hundredweight (cwt) | 0.12
The units of measure are: bu = number of bushels; lb. = weight in pounds; head = number of head of hogs; and cwt = hundredweight.

The initial payment rate will apply to the first 50 percent of the producer's total production of the selected commodity. On or about December 3, 2018, CCC may announce a second payment rate, if applicable, that will apply to the remaining 50 percent of the producer's production for the selected commodity.

MFP payment at either the initial payment rate or at a second payment rate will be made after a producer harvests 100 percent of the crop and certifies the amount of production.

The actual production used to calculate an MFP payment under this NOFA is for 2018 production in which the applicant had an ownership share. Specifically, required production information is as follows:

• For crops, harvested production for the 2018 crop year;

• For hogs, the number of head of live hogs owned as of August 1, 2018; and

• For milk, the historical production reported for the Margin Protection Program—Dairy (following the same reporting rules as used for MPP—Dairy).

An ownership share for a crop will be as reported to FSA on the acreage report, form FSA-578, “Report of Acreage.” With respect to cotton, the ownership share applies only to cotton harvested as lint cotton and with respect to corn, sorghum, and wheat, the ownership share applies only to such commodities that are harvested as grain. The ownership share for milk will be as reported to FSA for MPP—Dairy for the dairy operation that was in business as of June 1, 2018. Dairy operations that are not in business as of June 1, 2018, are ineligible for MFP. Ownership for hogs will be reported to FSA on the MFP application; if a person or legal entity has a contract to grow the hogs, but does not own the hogs as of August 1, 2018, the person or legal entity is ineligible for MFP.

Production Evidence

On the application, the producer will certify the amount of production and note the source of production evidence. If requested, the producer must also provide supporting documentation as determined by CCC for the amount of production.

If supporting documentation is required for the amount of actual production and for ownership share, it needs to be verifiable records that substantiate the reported amounts. The participant's production for the commodity is based on verifiable or reliable production records. Examples of reliable production records include evidence provided by the participant that is used to substantiate the amount of production reported when verifiable records are not available, including copies of receipts, ledgers of income, income statements of deposit slips, register tapes, invoices for custom harvesting, and records to verify production costs, contemporaneous measurements, truck scale tickets, or contemporaneous diaries that are determined acceptable by the county committee.

Reliable record means any nonverifiable record available that reasonably supports the eligible production, as determined acceptable by the FSA county committee.

Verifiable record means a document provided by the producer that can be verified by the FSA county committee through an independent source and is used to substantiate the eligible production.

Payment Limitation

For MFP payments, there will be a single combined $125,000 per person or legal entity payment limitation for the five crops announced in this NOFA and a separate combined per person or legal entity $125,000 payment limitation for hogs and milk.

Eligible Crops

To be eligible to receive an MFP payment for a crop, the amount of mechanically harvested production for soybeans, sorghum, wheat, ELS cotton, upland cotton, and corn will be the amount based on the crop types, intended uses, and status that are consistent with the Agriculture Risk Coverage (ARC) and Price Loss Coverage (PLC) program regulations in 7 CFR part 1412, except grazing is not an eligible intended use for MFP.

Paperwork Reduction Act Requirements

In accordance with the Paperwork Reduction Act of 1995 (44 U.S.C. chapter 35), FSA is requesting comments from interested individuals and organizations on the information collection activities related to MFP. After the 60-day period ends, the information collection request will be submitted to OMB for the 3-year approval to cover MFP information collection.

To start the MFP information collection approval, FSA received emergency approval from OMB for 6 months. The emergency approval covers this NOFA and any other MFP information collection activities.

Title: Marketing Facilitation Program (MFP).

OMB Control Number: 0560—New.

Type of Request: New Collection.

Abstract: This information collection is required to support all MFP information collection activities (NOFA and the regulation in 7 CFR part 1409) to provide eligible producers payments with respect to commodities that have been significantly impacted by actions of foreign governments resulting in the loss of traditional exports. The information collection is necessary to evaluate the application and other required paperwork for determining the producer's eligibilities and assist in producer's payment calculations.

For the following estimated total annual burden on respondents, the formula used to calculate the total burden hour is the estimated average time per response multiplied by the estimated total annual responses.

Public reporting burden for this information collection is estimated to include the time for reviewing instructions, searching existing data sources, gathering and maintaining the data needed and completing and reviewing the collections of information.

Type of Respondents: Producers or farmers.

Estimated Annual Number of Respondents: 784,439.

Estimated Number of Reponses per Respondent: 1.

Estimated Total Annual Responses: 784,439.

Estimated Average Time per Response: 0.6983 hours.

Estimated Total Annual Burden on Respondents: 863,297.

FSA is requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Environmental Review

The environmental impacts for MFP have been considered in a manner consistent with the provisions of the National Environmental Policy Act (NEPA, 42 U.S.C. 4321-4347), the regulations of the Council on Environmental Quality (40 CFR parts 1500-1508), and the FSA regulation for compliance with NEPA (7 CFR part 799).

As stated in the MFP final rule, the implementation of MFP and the participation in MFP do not constitute major Federal actions that would significantly affect the quality of the human environment, individually or cumulatively. The final rule served as documentation of the programmatic environmental compliance decision for this federal program; therefore, CCC will not prepare additional environmental compliance documentation for this NOFA.

Federal Assistance Programs

The title and number of the Federal assistance programs, as found in the Catalog of Federal Domestic Assistance, to which this NOFA applies is:

10.123 Market Facilitation Program.

Richard Fordyce,
Administrator, Farm Service Agency.
Robert Stephenson,
Executive Vice President, Commodity Credit Corporation.

[FR Doc. 2018-18819 Filed 8-28-18; 8:45 am]

BILLING CODE 3410-05-P